DEPARTMENT OF HEALTH AND HUMAN SERVICES

Centers for Disease Control and Prevention

[60Day-22-1233; Docket No. CDC-2022-0067]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Paul Coverdell National Acute Stroke Program (PCNASP) (DP21-2102) Evaluation. This project will collect information from funded PCNASP recipients to gain insight into the effectiveness of implementation approaches, including linking and using data, using team-based approaches to coordinate stroke care, and providing community resources in order to reach the general population and those at highest risk of stroke events, and reduce disparities in access to quality care for high burden populations.

DATES: CDC must receive written comments on or before July 22, 2022.

ADDRESSES: You may submit comments, identified by Docket No. CDC-2022-0067 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Paul Coverdell National Acute Stroke Program (PCNASP) (DP21-2102) Evaluation (OMB Control No. 0920-1233)—Reinstatement—National Center for Chronic Disease Prevention and Health Promotion (NCCDPHP), Centers for Disease Control and Prevention (CDC).

Background and Brief Description

The CDC is the primary federal agency for protecting health and promoting quality of life through the prevention and control of disease, injury, and disability. CDC is committed to programs that reduce the health and economic consequences of the leading causes of death and disability, thereby ensuring a long, productive, healthy life for all people.

Stroke remains a leading cause of serious, long-term disability and is the fifth leading cause of death in the United States after heart disease, cancer, chronic lower respiratory diseases, and accidents. Estimates indicate that approximately 795,000 people suffer a first-ever or recurrent stroke each year with more than 146,000 deaths annually. Although there have been significant advances in preventing and treating stroke, the rising prevalence of heart disease, diabetes, and obesity has increased the relative risk for stroke, especially in African American populations. Moreover, stroke's lifetime direct cost of health care and indirect cost of lost productivity is staggering and imposes a substantial societal economic burden.

State programs funded through the Paul Coverdell National Acute Stroke Program (PCNASP) are in the forefront of developing and implementing system-change efforts to improve stroke systems of care by using strategies like linking and using data, using team-based approaches to coordinate stroke care, and providing community resources to reach the general populations and specifically those at highest risk of stroke events, and reduce disparities in access to quality care for high burden populations.

When Congress directed the CDC to establish PCNASP in 2001, CDC intended to monitor trends in stroke and stroke care, with the ultimate mission of improving the quality of care for stroke patients in the United States. Since 2021, CDC has funded and provided technical assistance to thirteen recipients to develop comprehensive stroke systems of care. A comprehensive system of care improves quality of care by creating seamless transitions for individuals experiencing stroke. In such a system, pre-hospital providers, in-hospital providers, and early post-hospital providers coordinate patient hand-offs and ensure continuity of care.

While PCNASP has existed since 2001, the goal and mission of the program has evolved with each funding cycle. The 2021-2024 funding cycle is the first such initiative to focus on addressing health equity specifically and understanding efforts to impact stroke outcomes for those at highest risk of stroke. CDC contracted with RTI International to conduct a national evaluation to assess program implementation as well as short term and intermediate outcomes of the thirteen funded recipients.

CDC and RTI International propose to collect information from all thirteen funded PCNASP recipients to gain insight into the effectiveness of implementation approaches, including linking and using data, using team based approaches to coordinate stroke care, and providing community resources in order to reach the general population and those at highest risk of stroke events, and reduce disparities in access to quality care for high burden populations.

The information collection will focus on describing PCNASP specific contributions to effective state-based stroke systems of care and the costs associated with this work. Two components of the information collection include: (1) Program implementation cost data collection from program recipients using a cost collection tool; and (2) interviews with key program and partner staff. Cost data collection will focus on recipients' cumulative spending to support PCNASP activities, spending by reporting period, and spending associated with specific PCNASP strategies related to building comprehensive state-wide stroke systems of care and strategies focusing on high-risk populations. Interview questions will focus on how each recipient implemented its strategies to increase access to and quality of healthcare overall, as well as for patients at highest risk of stroke events. It will identify challenges encountered and how they were overcome, factors that facilitated implementation, lessons learned along the way, and observed outcomes and improvements. The information to be collected does not currently exist for large scale, statewide programs that employ multiple combinations of strategies to build comprehensive stroke systems of care.

The insights to be gained from this data collection will be critical to improving immediate efforts and achieving the goals of spreading and replicating state-level strategies that are proven programmatically and are cost-effective in contributing to a higher quality of care for stroke patients. OMB approval is requested for three years. CDC requests OMB approval for an estimated 104 annual burden hours. Participation is voluntary and there are no costs to respondents other than their time.

Estimated Annualized Burden Hours
Type of respondents | Form name | Number of respondents | Number of responses per respondent | Average burden per response (in hours) | Total burden (in hours)
Program Manager | Cost Collection Tool | 13 | 1 | 2 | 26
Program Director | Interview | 13 | 1 | 1 | 13
Quality Improvement Specialist | Interview | 13 | 1 | 1 | 13
Partner Support Staff | Interview | 52 | 1 | 1 | 52
Total |  |  |  |  | 104

Jeffrey M. Zirger,
Lead, Information Collection Review Office, Office of Scientific Integrity, Office of Science, Centers for Disease Control and Prevention.

[FR Doc. 2022-10992 Filed 5-20-22; 8:45 am]

BILLING CODE 4163-18-P